DEPARTMENT OF ENERGY

Federal Energy Regulatory Commission

[Project No. 14443-000]

Consolidated Irrigation Company; Notice of Preliminary Permit Application Accepted for Filing and Soliciting Comments, Motions To Intervene, and Competing Applications

On July 30, 2011, the Consolidated Irrigation Company of Preston, Idaho, filed an application for a preliminary permit, pursuant to section 4(f) of the Federal Power Act (FPA), proposing to study the feasibility of the Consolidated Irrigation Glendale Conduit Hydro Project (Glendale Conduit Project or project) to be located on Mink and Cub Creeks, near Preston, in Franklin County, Idaho. The project would not occupy any Federal lands. The sole purpose of a preliminary permit, if issued, is to grant the permit holder priority to file a license application during the permit term. A preliminary permit does not authorize the permit holder to perform any land-disturbing activities or otherwise enter upon lands or waters owned by others without the owners' express permission.

The proposed project would consist of the following: (1) An existing screened intake on Mink Creek; (2) an existing screened intake on Cub Creek; (3) a new pipeline and penstock consisting of 8,520 feet of 24-inch-diameter, high-density polyethylene (HDPE) pipe, 4,340 feet of 30-inch-diameter HDPE pipe, and 4,060 feet of 36-inch-diameter HDPE pipe; (4) a powerhouse containing a 500-kilowatt turbine-generator; (5) a 1,700-foot-long, underground 12-kilovolt transmission cable connecting to an existing transmission line owned by Rocky Mountain Power; and (6) appurtenant facilities. The estimated annual generation of the Glendale Conduit Project would be 2,526 megawatt-hours.

Applicant Contact: Mr. Lyle Porter, President, Consolidated Irrigation Company, 33 South 1st East, Preston, ID 83263; phone: (208) 852-2364.

FERC Contact: Joseph Hassell; phone: (202) 502-8079.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street NE., Washington, DC 20426.

More information about this project, including a copy of the application, can be viewed or printed on the “eLibrary” link of Commission's Web site at http://www.ferc.gov/docs-filing/elibrary.asp. Enter the docket number (P-14443) in the docket number field to access the document. For assistance, contact FERC Online Support.

Dated: March 7, 2013.
Kimberly D. Bose,
Secretary.

[FR Doc. 2013-05952 Filed 3-14-13; 8:45 am]

BILLING CODE 6717-01-P